NATIONAL TRANSPORTATION SAFETY BOARD

Notice of Sunshine Act Meeting

TIME AND DATE: 9:30 a.m., Tuesday, March 20, 2007.

PLACE: NTSB Conference Center, 429 L'Enfant Plaza, SW., Washington, DC 20594.

STATUS: The two items are open to the public.

MATTERS TO BE CONSIDERED:

7870, Railroad Accident Report—Collision of Two CN Freight Trains, Anding, Mississippi, July 10, 2005 (DCA-05-MR-011).

7834A, Marine Accident Brief and Safety Recommendation Letter—Fire on Board U.S. Small Passenger Vessel Massachusetts, Boston Harbor, Massachusetts, June 12, 2006.

NEW MEDIA CONTACT: Telephone: (202) 314-6100.

Individuals requesting specific accommodations should contact Chris Bisett at (202) 314-6305 by Friday, March 16, 2007.

The public may view the meeting via a live or archived Web cast by accessing a link under “News & Events” on the NTSB home page at http://www.ntsb.gov.

FOR FURTHER INFORMATION CONTACT: Vicky D'Onofrio, (202) 314-6410.

Dated: March 9, 2007.
Vicky D'Onofrio,
Federal Register Liaison Officer.

[FR Doc. 07-1202 Filed 3-9-07; 2:42 pm]

BILLING CODE 7533-01-M